DEPARTMENT OF JUSTICE

Notice of Lodging of Consent Decree Under the Clean Water Act, Clean Air Act, and the Emergency Planning and Community Right-to-Know Act

Under the policy set out as 28 CFR 50.7, notice is hereby given that on August 31, 2006, the United States lodged with the United States District Court for the Northern District of Iowa, Eastern Division, a proposed consent decree (“Consent Decree”) in the case of United States v. AgriProcessors, Inc., Civ. A. No. C04-1037-LRR.

The Consent Decree settles claims by the United States, pursuant to Sections 301 and 307 of the Clean Water Act (“CWA”), 33 U.S.C. 1311 and 1317; Section 112(r) of the Clean Air Act (“CAA”), 42 U.S.C. 7412(r); and Sections 312 and 313 of the Emergency Planning and Community Right-to-Know Act (“EPCRA”), 42 U.S.C. 11022 and 11023, against AgriProcessors, Inc. (“Agri”), regarding its meat processing plant in Postville, Iowa. A complaint filed in December 2004 alleged, inter alia, that Agri (1) contributed wastewater from its plant to the City of Postville's publicly owned treatment works in violation of Section 307 of the CWA; (2) failed to properly submit emergency and hazardous chemical inventory forms and other records in violation of Sections 312(a) and 313 of EPCRA; and (3) failed to properly develop and implement a risk management program in violation of Section 112(r) of the CAA.

Under the Consent Decree, Agri agrees to a resolve the United States' claims for a civil penalty and a Supplemental Environmental Project (“SEP”). For the SEP, Agri will expend at least $12,330 to purchase certain emergency response equipment needed by the City of Postville Fire Department. Agri will pay the cash penalty, $590,756, over a two-year period with interest. In addition, Agri agrees to perform an environmental compliance audit at is Postville facility, to assess current compliance with the CAA and EPCRA, including applicable state analogues. Agri will also perform an environmental compliance audit at its new meat processing facility in Gordon, Nebraska, to assess current compliance with all applicable Federal and state environmental requirements.

The Department of Justice will receive comments relating to the Consent Decree for a period ending on October 5, 2006. Comments must be submitted by close of business on October 5, 2006, and should be addressed to the Assistant Attorney General, Environment and Natural Resources Division, P.O. Box 7611, U.S. Department of Justice, Washington, DC 20044-7611, and should refer to United States v. AgriProcessors, Inc., DOJ Ref. No. 90-5-1-1-08078/2.

The Consent Decree may be examined at the offices of the United States Attorney, Northern District of Iowa, 401 First Street, SE., Hach Building, Suite 400, Cedar Rapids, IA 52401-1825, and at the offices of U.S. EPA Region 7, 901 N. 5th Street, Kansas City, KS 66101.

During the public comment period, the Consent Decree may also be examined on the following Department of Justice Web site, http://www.usdoj.gov/enrd/open.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $12.25 (25 cents per page reproduction cost) payable to the U.S. Treasury).

Maureen M. Katz,
Assistant Section Chief, Environmental Enforcement Section, Environment and Natural Resources Division.

[FR Doc. 06-7515 Filed 9-7-06; 8:45 am]

BILLING CODE 4410-15-M